Proclamation 8501 of April 16, 2010

National Day of Service and Remembrance for Victims and Survivors of Terrorism, 2010

By the President of the United States of America

A Proclamation

There is no greater evil than willful violence against innocents. On this National Day of Service and Remembrance for Victims and Survivors of Terrorism, we pause to remember victims of terrorism at home and abroad, we honor the heroes who have supported them, and we redouble our efforts to build the kind of world that is worthy of their legacy.

Fifteen years ago, terrorists bombed the Alfred P. Murrah Federal Building in Oklahoma City, killing over 160 men, women, and children, and injuring hundreds more. Even before the dust settled, heroes had emerged. First responders, medical professionals, clergy, relief organizations, local leaders, and everyday citizens stepped forward to help victims and their families. Again, when terrorists struck on September 11, 2001, and thousands of Americans—and scores of foreign nationals—perished in New York City, at the Pentagon, and in Shanksville, Pennsylvania, Americans made a historic effort to assist all those affected. The dignity of those who were attacked—and the courage of those who came to their aid—reaffirmed the strength of our Nation, and the human spirit.

Terrorists prey on the innocent and vulnerable, and have nothing to offer except hatred and destruction. No cause justifies their actions, yet they have claimed many victims around the world. Wherever they kidnap or kill, they reveal only their own bankrupt vision, and disrupt or destroy lives. Their actions impact not only their victims, but the families, friends, and fellow citizens of those who are targeted.

Survivors of terrorism and their families, though bound at first by anguish and loss, are united by extraordinary acts of courage, love, faith, and commitment. They have risen against terrorism in the aftermath of the Oklahoma City bombing, the September 11 attacks, and other incidents of violence around the world. They are giving a voice to victims, speaking out against violent and extremist ideologies, easing the suffering of survivors, and helping them heal and hope once more.

Today, let us honor the good works of this inspiring movement that shows us that hope is more powerful than fear, and recognize the sacrifice of extraordinary citizens worldwide who have shown fortitude in the face of unspeakable tragedy.

NOW, THEREFORE, I, BARACK OBAMA, President of the United States of America, by virtue of the authority vested in me by the Constitution and the laws of the United States, do hereby proclaim April 19, 2010, as National Day of Service and Remembrance for Victims and Survivors of Terrorism. I call upon all departments, agencies, and instrumentalities of the United States to display the flag of the United States at half-staff on this day in honor of the individuals who lost their lives as a result of terrorism. I invite the Governors of the United States and the Commonwealth of Puerto Rico and interested organizations and individuals to join in this observance. I encourage all Americans to observe this solemn day of remembrance with appropriate ceremonies, activities, and acts of community service in memory of the victims and survivors of terrorism worldwide.

IN WITNESS WHEREOF, I have hereunto set my hand this sixteenth day of April, in the year of our Lord two thousand ten, and of the Independence of the United States of America the two hundred and thirty-fourth.

[FR Doc. 2010-9416

Filed 4-20-10; 11:15 am]

Billing code 3195-W0-P